DEPARTMENT OF STATE

[Public Notice 5158]

Culturally Significant Objects Imported for Exhibition Determinations: “Hatshepsut: From Queen to Pharaoh''

ACTION: Notice, correction.

SUMMARY: On June 20, 2005, notice was published on page 35493 of the Federal Register (volume 70, number 117) of determinations made by the Department of State pertaining to the exhibit, “Daughter of Re: Hatshepsut, King of Egypt.” The referenced notice is corrected to reflect that the title of the exhibition, formerly titled, “Daughter of Re: Hatshepsut, King of Egypt,” has been changed to “Hatshepsut: From Queen to Pharaoh.” The referenced notice is also corrected as to an additional object to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I determine that an additional object to be included in the exhibition, “Hatshepsut: From Queen to Pharaoh,” imported from abroad for temporary exhibition within the United States, is of cultural significance. The additional object is imported pursuant to a loan agreement with the foreign owners. I also determine that the exhibition or display of the exhibit object at the Fine Arts Museums of San Francisco, California, from on or about October 15, 2005 to on or about February 5, 2006, and at The Metropolitan Museum of Art, New York, New York, from on or about March 21, 2006 to on or about July 9, 2006, and at the Kimbell Art Museum, Fort Worth, Texas, from on or about August 26, 2006 to on or about December 31, 2006, and at possible additional venues yet to be determined, is in the national interest. Notice of these Determinations is ordered to be published in the Federal Register.

FOR FURTHER INFORMATION CONTACT: For further information, including a list of the exhibit objects, contact Wolodymyr R. Sulzynsky, the Office of the Legal Adviser, Department of State, (telephone: 202/453-8050). The address is Department of State, SA-44, 301 4th Street, SW., Room 700, Washington, DC 20547-0001.

Dated: August 11, 2005.
C. Miller Crouch,
Principal Deputy Assistant Secretary for Educational and Cultural Affairs, Department of State.

[FR Doc. 05-16399 Filed 8-17-05; 8:45 am]

BILLING CODE 4710-08-P